DEPARTMENT OF AGRICULTURE

Animal and Plant Health Inspection Service

[Docket No. APHIS-2013-0032]

National Poultry Improvement Plan; General Conference Committee Meeting

AGENCY: Animal and Plant Health Inspection Service, USDA.

ACTION: Notice of meeting.

SUMMARY: We are giving notice of a meeting of the General Conference Committee of the National Poultry Improvement Plan.

DATES: The General Conference Committee meeting will be held on June 20, 2013, from 7:30 a.m. to 2 p.m.

ADDRESSES: The meeting will be held at the Hotel Indigo Athens, 500 College Avenue, Athens, GA.

FOR FURTHER INFORMATION CONTACT: Dr. Denise L. Brinson, Acting Senior Coordinator, National Poultry Improvement Plan, VS, APHIS, 1506 Klondike Road, Suite 101, Conyers, GA 30094; (770) 922-3496.

SUPPLEMENTARY INFORMATION: The General Conference Committee (the Committee) of the National Poultry Improvement Plan (NPIP), representing cooperating State agencies and poultry industry members, serves an essential function by acting as a liaison between the poultry industry and the Department in matters pertaining to poultry health. The Committee meets to discuss significant poultry health issues and makes recommendations to improve the NPIP program.

Topics for discussion at the upcoming meeting include:

1. Salmonella update.

2. Salmonella tests for consideration.

3. Pooling of avian influenza samples.

4. Cooperative agreements and funds for testing.

The meeting will be open to the public. However, due to time constraints, the public will not be allowed to participate in the discussions during the meeting. Written statements on meeting topics may be filed with the Committee before or after the meeting by sending them to the person listed under FOR FURTHER INFORMATION CONTACT. Written statements may also be filed at the meeting. Please refer to Docket No. APHIS-2013-0032 when submitting your statements.

If you require special accommodations, such as a sign language interpreter, please call or write the person listed under FOR FURTHER INFORMATION CONTACT.

This notice of meeting is given pursuant to section 10 of the Federal Advisory Committee Act (5 U.S.C. App. 2).

Done in Washington, DC, this 3rd day of June 2013.
Kevin Shea,
Acting Administrator, Animal and Plant Health Inspection Service.

[FR Doc. 2013-13436 Filed 6-4-13; 8:45 am]

BILLING CODE 3410-34-P